DEPARTMENT OF COMMERCE

International Trade Administration

Massachusetts Institute of Technology; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, N.W., Washington, D.C.

Docket Number: 00-041. Applicant: Massachusetts Institute of Technology, Cambridge, MA 02139. Instrument: Nanoindentor. Manufacturer: Micro Materials, Ltd., United Kingdom. Intended Use: See notice at 66 FR 7626, January 24, 2001.

Comments: None received. Decision: Approved. No instrument of equivalent scientific value to the foreign instrument, for such purposes as it is intended to be used, is being manufactured in the United States. Reasons: The foreign instrument provides a high temperature stage for heating specimens to 500° C with: (1) a probe heater to ensure equilibrium of the indentor/specimen temperature and (2) a thermal barrier to minimize heating of the remainder of the instrument. A domestic manufacturer of similar equipment advised February 15, 2001 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald Z. Zerdy,
Program Manager, Statutory Import Programs Staff.

[FR Doc. 01-6119 Filed 3-12-01; 8:45 am]

BILLING CODE 3510-DS-P